DEPARTMENT OF ENERGY

Federal Energy Regulatory Commission

[Project No. 2582-027]

Rochester Gas and Electric Corp.; Notice of Availability of Final Environmental Assessment

March 11, 2009.

In accordance with the National Environmental Policy Act of 1969 and the Federal Energy Regulatory Commission's (Commission or FERC) regulations, 18 CFR part 380, Commission staff has reviewed the application for amendment of license for the Station 2 Project (FERC No. 2582) and has prepared a final environmental assessment (final EA). The project is located on the Genesee River in Monroe County, New York.

The final EA contains the Commission staff's analysis of the potential environmental effects of the proposed addition of new generating capacity and concludes that authorizing the amendment, with appropriate environmental protective measures, would not constitute a major Federal action that would significantly affect the quality of the human environment.

Copies of the final EA are available for review in the Public Reference Room 2-A of the Commission's offices at 888 First Street, NE., Washington, DC 20426. The final EA may also be viewed on the Commission's Internet Web site (http://www.ferc.gov) using the “eLibrary” link. Enter the docket number excluding the last three digits in the docket number field to access the document. Additional information about the project is available from the Commission's Office of External Affairs, at (202) 502-6088, or on the Commission's Web site using the eLibrary link. For assistance with eLibrary, contact FERCOnlineSupport@ferc.gov or toll-free at (866) 208-3676; for TTY contact (202) 502-8659.

Kimberly D. Bose,
Secretary.

[FR Doc. E9-5772 Filed 3-17-09; 8:45 am]

BILLING CODE 6717-01-P